DEPARTMENT OF TRANSPORTATION

Federal Aviation Administration

14 CFR Part 71

[Docket No. FAA-2014-1070; Airspace Docket No. 14-ANM-9]

Establishment of Class D and Class E Airspace; Aurora, OR

AGENCY: Federal Aviation Administration (FAA), DOT.

ACTION: Final rule.

SUMMARY: This action establishes Class D airspace, Class E surface area airspace, and Class E airspace extending upward from 700 feet above the surface at Aurora State Airport, Aurora, OR, to accommodate standard instrument approach procedures for the new air traffic control tower. This action enhances the safety and management of Instrument Flight Rules (IFR) operations at the airport.

DATES: Effective 0901 UTC, October 15, 2015. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed on line at http://www.faa.gov/airtraffic/publications/. The Order is also available for inspection at the National Archives and Records Administration (NARA). For further information, you can contact the Airspace Policy and ATC Regulations Group, Federal Aviation Administration, 800 Independence Avenue SW., Washington, DC 29591; telephone: 202-267-8783. For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Aurora, OR.

History

On March 13, 2015, the FAA published in the Federal Register a notice of proposed rulemaking (NPRM) to establish Class D airspace, Class E surface area airspace, and Class E airspace extending upward from 700 feet above the surface at Aurora State Airport, Aurora, OR, (80 FR 13288). Interested parties were invited to participate in this rulemaking effort by submitting written comments on the proposal to the FAA. Fourteen comments were received on the proposal. One comment was received from Zachary McTee supporting the proposal. Two commenters requested a larger shelf area for operations at Lenhart Airpark. After a working group meeting to review the comments received, the FAA agreed with the two commenters and is increasing the shelf area at Lenhart Airpark however, the FAA is unable to increase the shelf to the dimensions requested due to airspace required to protect instrument flight procedures into Aurora State Airport. The FAA also determined that the shelf altitude should be confined to that airspace below 1,200 feet versus the 1,300 feet indicated in the proposal. This allows the users at Lenhart Airport, and also McGee Airport, 1,000 feet of airspace to conduct their operations. One comment was received from Randy Prakken requesting a larger cutout for Workman Airpark, and ten comments were received from owners and operators at Dietz Airpark, expressing concern over having the Class D airspace area interfere with aircraft operations west of their respective airports. To mitigate the concerns for Dietz and Workman Airparks, the FAA has reduced the radius of Class D airspace from 5 miles to 4.2 miles from the northeast to the southeast.

Class D and Class E airspace designations are published in paragraph 5000, 6002, and 6005, respectively, of FAA Order 7400.9Y, dated August 6, 2014, and effective September 15, 2014, which is incorporated by reference in 14 CFR 71.1. The Class E airspace designation listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This amendment to Title 14, Code of Federal Regulations (14 CFR) part 71 establishes Class D airspace, Class E surface area airspace, and Class E airspace extending upward from 700 feet above the surface at Aurora State Airport, Aurora, OR. Construction of a new air traffic control tower made this action necessary for the safety and management of standard instrument approach procedures for IFR operations at the airport. Class D airspace extends upward from the surface to and including 2,700 feet within a 4.2-mile radius of Aurora State Airport, extending to 5 miles from the southeast to the northeast, excluding segments below 1,200 feet beyond 3.3 miles southeast and west of the airport. Class E surface area airspace extends upward from the surface within a 4.2-mile radius of Aurora State Airport extending to 5 miles from the southeast to the northeast, excluding segments beyond 3.3 miles southeast and west of the airport. Class E airspace extending upward from 700 feet above the surface is established to within a 7-mile radius of Aurora State Airport, with segments extending from the 7-mile radius to 20 miles northeast and 10.9 miles northwest of the airport.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 5000 Class D Airspace

* * * * *

ANM OR D Aurora, OR [New]

Aurora, Aurora State Airport, OR

(Lat. 45°14′50″ N., long. 122°46′12″ W.)

That airspace extending upward from the surface to and including 2,700 feet within a 4.2-mile radius of Aurora State Airport from the 64° bearing from the airport clockwise to the 142° bearing, extending to a 5-mile radius from the 142° bearing clockwise to the 64° bearing from the airport, excluding that airspace below 1,200 feet beyond 3.3 miles from the airport from the 142° bearing clockwise to the 174° bearing, and that airspace below 1,200 feet beyond 3.3 miles from the airport from the 250° bearing clockwise to the 266° bearing from the airport. This Class D airspace area is effective during the specific dates and times established in advance by a Notice to Airmen. The effective date and time will thereafter be continuously published in the Airport/Facility Directory.

Paragraph 6002 Class E Airspace Designated as Surface Areas

* * * * *

ANM OR E2 Aurora, OR [New]

Aurora, Aurora State Airport, OR

(Lat. 45°14′50″ N., long. 122°46′12″ W.)

That airspace extending upward from the surface within a 4.2-mile radius of Aurora State Airport from the 64° bearing from the airport clockwise to the 142° bearing, extending to a 5-mile radius from the 142° bearing clockwise to the 64° bearing from the airport, excluding that airspace below 1,200 feet beyond 3.3 miles from the airport from the 142° bearing clockwise to the 174° bearing, and that airspace below 1,200 feet beyond 3.3 miles from the airport from the 250° bearing clockwise to the 266° bearing from the airport.

Paragraph 6005 Class E Airspace Areas Extending Upward From 700 Feet or More Above the Surface of the Earth

* * * * *

ANM OR E5 Aurora, OR [New]

Aurora, Aurora State Airport, OR

(Lat. 45°14′50″ N., long. 122°46′12″ W.)

That airspace extending upward from 700 feet above the surface within a 7-mile radius of Aurora State Airport, and that airspace 1.6 miles either side of the 007° bearing from airport extending from the 7-mile radius to 20 miles northeast of the airport, and that airspace 1.2 miles either side of the 306° bearing from airport extending from the 7-mile radius to 10.9 miles northwest of the airport.

Issued in Seattle, Washington, on August 17, 2015.
Christopher Ramirez,
Manager, Operations Support Group, Western Service Center.

[FR Doc. 2015-20757 Filed 8-21-15; 8:45 am]

BILLING CODE 4910-13-P